ENVIRONMENTAL PROTECTION AGENCY

[ER-FRL-6637-4]

Environmental Impact Statements; Notice of Availability

Responsible Agency: Office of Federal Activities, General Information (202) 564-7167 or http://www.epa.gov/compliance/nepa. Weekly receipt of Environmental Impact Statements filed January 27, 2003, through January 31, 2003, pursuant to 40 CFR 1506.9.

EIS No. 030046, DRAFT EIS, BLM, WY, South Powder River Basin Coal Project, Proposed Application for Leasing of Five Federal Coal Tracts: NARO North/South (North Antelope/ Rochelle Mine Complex), Little Thunder (Black Thunder Mine) West Roundup (North Rochelle Mine) and West Antelope (Antelope Mine), Campbell and Converse Counties, WY, Comment Period Ends: April 08, 2003, Contact: Nancy Doelger (307) 261-7627.

This document is available on the Internet at: http://www.wyblm.com.

EIS No. 030047, DRAFT EIS, AFS, MI, Interior Wetlands Project, Proposal to Harvest Timber, Prune White Pine Trees, Adjust the Growth System, Create and Maintain Wildlife Openings and Improve Transportation System, Hiawatha National Forest, Eastside Administrative Unit, Chippewa County, MI, Comment Period Ends: April 08, 2003, Contact: Martha Sjogren (906) 643-7900.

This document is available on the Internet at: http://www.fs.fed.us/r9/hiawatha.

EIS No. 030048, DRAFT EIS, DOD, CA, AS, AK, HI, WA, Ground-Based Midcourse Defense (GMD) Extended Test Range (ETR) Project, Proposal to Construct and Operate Additional Launch and Test Facilities including the Sea Based X-Band Radar, Comment Period Ends: March 24, 2003, Contact: David Hasley (256) 955-4170.

Amended Notices

EIS No. 030034, DRAFT EIS, AFS, CA, Stream Fire Restoration Project, Implementation, Plumas National Forest, Mt. Hough Ranger District, Plumas County, CA, Comment Period Ends: March 17, 2003, Contact: Rich Bednarski (530) 283-7641.

Revision of FR Notice Published on 1/31/2003: Correction to Telephone number.

Dated: February 4, 2003.
Joseph C. Montgomery,
Director, NEPA Compliance Division, Office of Federal Activities.

[FR Doc. 03-3060 Filed 2-6-03; 8:45 am]

BILLING CODE 6560-50-P